DEPARTMENT OF HOMELAND SECURITY

Coast Guard

33 CFR Part 96

46 CFR Parts 71, 115, and 176

[Docket No. USCG-2020-0123]

RIN 1625-AC65

Safety Management Systems for Domestic Passenger Vessels

AGENCY: Coast Guard, DHS.

ACTION: Advance notice of proposed rulemaking; extension of comment period.

SUMMARY: The Coast Guard is extending the comment period for the advance notice of proposed rulemaking published January 15, 2021, that seeks comments on the potential use of Safety Management Systems to improve safety and reduce marine casualties on board U.S.-flagged passenger vessels. We are extending the comment period an additional 45 days, to June 1, 2021.

DATES: The comment period for the advance notice of proposed rulemaking published January 15, 2021, 86 FR 3899, is extended. Comments must be received by the Coast Guard on or before June 1, 2021.

FOR FURTHER INFORMATION CONTACT: For information about this document, call or email Lieutenant Kimberly Gates, Vessel and Facility Operating Standards Division (CG-OES-2), U.S. Coast Guard, 2703 Martin Luther King Jr. Avenue SE, Washington, DC 20593; telephone 202-372-1455, email kimberly.m.gates@uscg.mil.

SUPPLEMENTARY INFORMATION: The Coast Guard received a request to extend the comment period for an additional 45 days on its advance notice of proposed rulemaking (ANPRM) entitled “Safety Management Systems for Domestic Passenger Vessels,” that was published January 15, 2021 (86 FR 3899). The requester cited ongoing COVID-19 impacts and that vessel owners and operators of the potentially affected population are impacted operationally. In response to this request, we are extending the comment period to June 1, 2021.

The Coast Guard is evaluating the potential use of Safety Management Systems (SMSs) to improve safety and reduce marine casualties on board U.S. flagged passenger vessels. The ANPRM published January 15, 2021, seeks public input and responses to specific questions on the feasibility, applicability, and nature of Safety Management Systems for potential use on U.S.-flagged passenger vessels. The Coast Guard may use this information to develop a proposed rule.

On March 1, 2021, we published a correction (86 FR 11913) to one of the questions in the ANPRM. The corrected Question 19 now reads: “How would the costs and benefits of expanding other existing regulations, as detailed in question 6, differ from the costs and benefits of requiring SMSs for all passenger vessels?”

We encourage you to submit comments through the Federal eRulemaking Portal at https://www.regulations.gov. If you cannot submit your material by using https://www.regulations.gov, call or email the person in the FOR FURTHER INFORMATION CONTACT section of this document for alternate instructions.

The ANPRM and public comments in response to it are available in our online docket at https://www.regulations.gov, and can be viewed by following that website's instructions. We review all comments received, but we will only post comments that address the topic of the ANPRM. We may choose not to post off-topic, inappropriate, or duplicate comments that we receive. Additionally, if you visit the online docket and sign up for email alerts, you will be notified when comments or additional documents are posted. The Coast Guard will not issue a separate response to the comments received, but will carefully consider each comment and will address them in a proposed rule if one is developed.

We accept anonymous comments. Comments we post to https://www.regulations.gov will include any personal information you have provided. For more about privacy and submissions in response to this document, see the Department of Homeland Security's eRulemaking System of Records notice (85 FR 14226, March 11, 2020).

Dated: March 19, 2021.
M.T. Cunningham,
Chief, Office of Regulations and Administrative Law.

[FR Doc. 2021-06145 Filed 3-31-21; 8:45 am]

BILLING CODE 9110-04-P